DEPARTMENT OF LABOR

Employment and Training Administration

[TA-W-39,931; TA-W-39,931A]

Minster Machine Company, Minster, OH; Minster Machine Company, Beaufort Operation, Beaufort, SC; Amended Certification Regarding Eligibility To Apply for Worker Adjustment Assistance

In accordance with section 223 of the Trade Act of 1974 (19 U.S.C. 2273) the Department of Labor issued a Notice of Certification Regarding Eligibility to Apply for Worker Adjustment Assistance on January 2, 2002, applicable to workers of Minster Machine Company, Minster, Ohio. The notice was published in the Federal Register on January 11, 2002 (67 FR 1511).

At the request of the company, the Department reviewed the certification for workers of the subject firm. The company reports that worker separations occurred at the Beaufort Operation, Beaufort, South Carolina location of Minster Machine Company. The Beaufort Operation produces material handling equipment required for the operation of punch presses produced at the Minster, Ohio location of the subject firm.

Based on these findings, the Department is amending the certification to include workers of the Beaufort Operation, Beaufort, South Carolina location of Minster Machine Company.

The intent of the Department's certification is to include all workers of Minster Machine Company who were adversely affected by increased imports.

The amended notice applicable to TA-W-39,931 is hereby issued as follows:

All workers of Minster Machine Company, Minster, Ohio (TA-W-39,931) and Minster Machine Company, Beaufort Operation, Beaufort, South Carolina (TA-W-39,931A) who became totally or partially separated from employment on or after August 16, 2000, through January 2, 2004, are eligible to apply for adjustment assistance under Section 223 of the Trade Act of 1974.

Signed at Washington, DC this 7th day of February, 2002.
Linda G. Poole,
Certifying Officer, Division of Trade Adjustment Assistance.

[FR Doc. 02-5574 Filed 3-7-02; 8:45 am]

BILLING CODE 4510-30-M